DEPARTMENT OF LABOR

Office of the Secretary

Submission for OMB Review: Comment Request

February 9, 2007.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained from RegInfo.gov at http://www.reginfo.gov/public/do/PRAMain or by contacting Darrin King on 202-693-4129 (this is not a toll-free number) ; e-mail: king.darrin@dol.gov.

Comments should be sent to Office of Information and Regulatory Affairs, Attn: OMB Desk Officer for the Occupational Safety and Health Administration (OSHA), Office of Management and Budget, Room 10235, Washington, DC 20503, Telephone: 202-395-7316; Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of currently approved collection.

Title: Manufacturer's Certification of Modifications Made to Construction Aerial Lifts (29 CFR 1926.453).

OMB Number: 1218-0216.

Type of Response: Recordkeeping.

Affected Public: Public Sector: Business or other for-profits.

Number of Respondents: 62.

Number of Annual Responses: 62.

Estimated Time per Response: 6 minutes.

Total Burden Hours: 6.

Total Annualized capital/startup costs: $0.

Total Annual Costs (operating/maintaining systems or purchasing services): $0.

Description: The objective of the Aerial Lifts Standard, “the Standard” at 29 CFR 1926.453 to protect employees who operate, or work near, aerial lifts. The only information collection requirement in the Aerial Lifts Standard is a certification provision, paragraph (a)(2). This provision requires an employer who field modifies an aerial lift for a use not intended by the lift manufacturer (“field modified aerial lift”) to obtain from that manufacturer, or an equivalent entity (such as a nationally-recognized laboratory), a written certificate stating that: The modification conforms to the applicable provisions of ANSI A92.2-1969 and OSHA's Aerial Lifts Standard; and the modified aerial lift is at least as safe as it was before modification.

Employers use the certification required in paragraph (a)(2) of the Standard as a record of equipment modification and to demonstrate to interested parties (e.g., OSHA compliance officers, renters, lessees, owners) that the modified aerial lift remains at least as safe for employees, as the original equipment. Additionally, the certification provides the best means by which an OSHA compliance officer can determine that the manufacturer or an equally-qualified entity assessed a field modified aerial lift and found that it was safe for use by, or near, employees, and would provide employees with a level of protection at least equivalent to the protection afforded by the lift in its original configuration. Finally, employees may review the information on the certificate; such a review will provide them with information that they can use to determine the safety of the modified lifts.

Darrin A. King,
Acting Departmental Clearance Officer.

[FR Doc. E7-2745 Filed 2-15-07; 8:45 am]

BILLING CODE 4510-28-P